DEPARTMENT OF ENERGY

Expression of Interest Regarding the Scope of an Intended Solicitation for Superconductivity Partnerships With Industry (SPI) Projects

AGENCY: Department of Energy, Office of Electricity Delivery and Energy Reliability.

ACTION: Notice of inquiry.

SUMMARY: The Department of Energy (DOE), as part of its Superconductivity Program for Electric Power Systems, is currently pursuing the development of electric power equipment incorporating high temperature superconductors (HTS) through PSIs. The purpose is to accelerate future commercial availability of the more efficient, higher capacity new technology enabled by HTS for modernizing the electricity infrastructure.

The DOE is contemplating issuing a solicitation in FY-2006 in response to continued industrial interest and due to the impressive technical accomplishments made to date by participating industry teams. Applications of interest could address the next stage of HTS power line R&D, or begin R&D for power equipment based on the expected 2006 availability of second generation (2G) HTS wires in limited quantity. The purpose of this notice is to request expressions of interest in responding to the contemplated solicitation. DOE also welcomes comments on the content of the solicitation.

DATES: Written comments are to be filed electronically by e-mailing to: SPI.comments@tms-hq.doe.gov no later than 5 p.m. eastern time September 16, 2005. Comments can also be submitted at the address listed below.

ADDRESSES: Office of Electricity Delivery and Energy Reliability, OE-2, Attention: SPI Comments, U.S. Department of Energy, Forrestal Building, Room 6H-034, 1000 Independence Avenue, SW., Washington, DC 20585.

Note that U.S. Postal Service mail sent to DOE continues to be delayed by several weeks due to security screening. Submission via FedEx or electronically is therefore encouraged.

FOR FURTHER INFORMATION CONTACT: Dr. James Daley, Office of Electricity Delivery and Energy Reliability, OE-2, Attention: SPI Comments, U.S. Department of Energy, 1000 Independence Avenue, SW., Washington, DC 20585.

SUPPLEMENTARY INFORMATION: DOE intends offering to share the cost of multi-year projects that advance program equipment goals where the industry contribution is typically 50% or more of the total project costs. DOE contemplates that proposals submitted pursuant to a future solicitation would be prepared by vertically integrated teams that include an equipment manufacturer, an end user such as an electric utility, and a HTS wire supplier. In addition, each team would be able to access (via separate Cooperative Research and Development Agreements) the capabilities of national laboratories currently participating in the superconductivity program in performing their project. These teams would be responsible for design, manufacture, installation and testing the technology of their choice. The program currently has a major focus on HTS power lines, but also has cost-shared projects for HTS generators, transformers, motors, fault current limiters and flywheel systems.

The DOE is contemplating issuing a solicitation in FY-2006 in response to continued industrial interest and due to the impressive technical accomplishments made to date by participating industry teams. Applications of interest could address the next stage of HTS power line R&D, or begin R&D for power equipment based on the expected 2006 availability of second generation (2G) HTS wires in limited quantity. Subject to availability of funds, DOE anticipates that awards for the contemplated solicitation will range from hundreds of thousands of dollars to several million dollars per year and for project periods of up to four years. The SPI awards would be cost-shared cooperative agreements between DOE and the industry team. The solicitation would also require that greater than 50% of manufacturing expenditures be in the United States. Further, the solicitation would require that the application include energy and economic benefits analysis, technical performance expectations, product or system design studies, and a plan for eventual product commercialization. A resulting award would fund first-of-a-kind equipment R&D concluding with its operation and testing, but would not commit DOE to follow-on phases or projects.

Issued in Washington, DC on July 26, 2005.
Kevin M. Kolevar,
Director, Office of Electricity Delivery and Energy Reliability.

[FR Doc. 05-15208 Filed 8-1-05; 8:45 am]

BILLING CODE 6450-01-P